DEPARTMENT OF THE INTERIOR

Fish and Wildlife Service

Big Branch Marsh National Wildlife Refuge

AGENCY: Fish and Wildlife Service, Interior.

ACTION: Notice of availability of the Final Comprehensive Conservation Plan and Finding of No Significant Impact.

SUMMARY: The Fish and Wildlife Service announces that a Final Comprehensive Conservation Plan (CCP) and Finding of No Significant Impact (FONSI) for Big Branch Marsh National Wildlife Refuge in St. Tammany Parish, Louisiana, is available for distribution. The CCP was prepared pursuant to the National Wildlife Refuge System Improvement Act of 1997, and in accordance with the National Environmental Policy Act of 1969, and describes how the refuge will be managed for the next 15 years. The compatibility determinations for hunting, fishing, wildlife observation and photography, environmental education and interpretation, bicycling, trapping of selected furbearers, forest management, and mosquito management are also available within the CCP.

ADDRESSES: A copy of the CCP/FONSI may be obtained by writing to the Big Branch Marsh National Wildlife Refuge, 61389 Highway 434, Lacombe, Louisiana 70445. The plan may also be accessed and downloaded from the Service's Web site address: http://southeast.fws.gov/planning/.

FOR FURTHER INFORMATION CONTACT: Charlotte Parker, Natural Resource Planner, Southeast Louisiana Refuge Complex, Telephone: 985/882-2029; Fax: 985/882-9133; Electronic mail: charlotte_parker@fws.gov; or by writing to the Natural Resource Planner at the address in the ADDRESSES section.

SUPPLEMENTARY INFORMATION: With this notice, we finalize the CCP process for Big Branch Marsh National Wildlife Refuge begun as announced in the Federal Register on January 12, 2004 (69 FR 1756). We released the Draft CCP/EA to the public, announcing and requesting comments for 30 days in a notice of availability in the Federal Register on April 30, 2007 (72 FR 21284).

The Draft CCP/EA identified and evaluated three alternatives for managing the refuge over the next 15 years. Alternative A, the “no action” alternative, would have continued current management of the refuge. Alternative B, the “proposed” alternative, would emphasize maintaining and improving wetland habitats, monitoring targeted flora and fauna representative of the Pontchartrain Basin, and providing quality public use programs and wildlife-dependent recreational activities. The refuge headquarters would not only house administrative offices, but would offer interpretation of refuge wildlife and habitats, demonstrate habitat improvements for individual landowners, and be developed as an urban public use area with trails and visitor and community outreach. Management decisions and actions would support wildlife species and habitat occurring on the refuge based on well-planned strategies and sound professional judgment. Alternative C would have focused refuge management on expanding public use activities to the fullest extent possible, while conducting only mandated resource protection.

Based on the environmental assessment and the comments received, the Service adopted Alternative B as its “preferred” alternative. This alternative was considered to be the most effective for meeting the purposes of the refuge by: (1) Assessing which species should be targeted for monitoring; (2) conserving and restoring wetlands; (3) determining best management practices for forestry and fire management programs; and (4) monitoring management actions for effectiveness. Public use programs will be updated to support and teach reasons behind refuge management actions, and to provide quality experiences to refuge visitors. The refuge headquarters will be developed to provide more visitor services. Alternative B best achieves national, ecosystem, and refuge-specific goals and objectives and positively addresses significant issues and concerns expressed by the public.

Big Branch Marsh National Wildlife Refuge is in St. Tammany Parish, Louisiana, between the towns of Mandeville and Slidell. The refuge covers a total of 17,366 acres within the 24,000-acre acquisition boundary. The refuge is located within the Pontchartrain Basin and consists of diverse habitat types, such as open waters of Lake Pontchartrain, marshes, ponds, bayous, submerged aquatic vegetation beds, prairie terrace, forested wetlands, and pine ridges within a relatively small area. Annually, more than 49,000 visitors participate in refuge activities.

Authority: This notice is published under the authority of the National Wildlife Refuge System Improvement Act of 1997, Public Law 105-57.

Dated: July 20, 2007.
Cynthia K. Dohner,
Acting Regional Director.

[FR Doc. E7-22311 Filed 11-14-07; 8:45 am]

BILLING CODE 4310-55-P